ENVIRONMENTAL PROTECTION AGENCY

[FRL-7888-7]

Science Advisory Board Staff Office; Notification of an Upcoming Meeting of the Science Advisory Board Regional Vulnerability Assessment (ReVA) Advisory Panel

AGENCY: Environmental Protection Agency (EPA).

ACTION: Notice.

SUMMARY: The EPA Science Advisory Board (SAB) Staff Office announces a public teleconference of the SAB Regional Vulnerability Assessment (ReVA) Advisory Panel.

DATES: April 14, 2005. The public teleconference will be held on April 14, 2005, from 2 p.m. to 4 p.m. (eastern time).

FOR FURTHER INFORMATION CONTACT: Any member of the public wishing to obtain the teleconference call-in number and access code to participate in the teleconference may contact Dr. Thomas Armitage, Designated Federal Officer (DFO), U.S. EPA Science Advisory Board by telephone/voice mail at (202)-343-9995, or via e-mail at armitage.thomas@epa.gov. The SAB Mailing address is: U.S. EPA, Science Advisory Board (1400F), 1200 Pennsylvania Avenue, NW., Washington, DC 20460. General information about the SAB may be found in the SAB Web site at http://www.epa.gov/sab.

SUPPLEMENTARY INFORMATION: Background: Pursuant to the Federal Advisory Committee Act, Pub. L. 92-463, notice is hereby given that the SAB Regional Vulnerability Assessment Advisory Panel will hold a public teleconference to discuss its draft advisory report on EPA's Regional Vulnerability Assessment methods and web-based Environmental Decision Toolkit. The Panel reviewed the ReVA methods and Environmental Decision Toolkit at a public meeting held on October 26-27, 2004 and has prepared a draft advisory report to EPA. Background information on the Panel and the ReVA advisory was provided in Federal Register notices published on July 30, 2004 (69 FR 45706-45707), and October, 13, 2004 (69 FR 60864-60865). The Panel is holding the teleconference to finalize its draft report before submitting the report to the chartered SAB for review and approval. The Panel's draft advisory report may be found on the SAB Web site at http://www.epa.gov/sab/pdf/reva_advisory_report_3_1_05.pdf. The teleconference agenda will be posted on the SAB Web site prior to the teleconference.

Procedures for Providing Public Comment: It is the policy of the EPA Science Advisory Board (SAB) Staff Office to accept written public comments of any length, and to accommodate oral public comments whenever possible. The EPA SAB Staff Office expects that public statements presented at the Regional Vulnerability Assessment Advisory Panel teleconference will not be repetitive of previously submitted oral or written statements. Oral Comments: In general, each individual or group requesting an oral presentation at a conference call meeting will be limited to no more than three minutes per speaker and no more than fifteen minutes total. Interested parties should contact the DFO in writing via e-mail at least one week prior to the teleconference in order to be placed on the public speaker list. Written Comments: Although written comments are accepted until the date of the teleconference (unless otherwise stated), written comments should be received in the SAB Staff Office at least one week prior to the teleconference date so that the comments may be made available to the committee or panel for their consideration. Comments should be supplied to the DFO at the address/contact information above in the following formats: one hard copy with original signature, and one electronic copy via e-mail (acceptable file format: Adobe Acrobat, WordPerfect, Word, or Rich Text files (in IBM-PC/Windows 98/2000/XP format).

Meeting Accommodations: Individuals requiring special accommodation to access the teleconference, should contact the relevant DFO at least five business days prior to the meeting so that appropriate arrangements can be made.

Dated: March 17, 2005.
Vanessa T. Vu,
Director, EPA Science Advisory Board Staff Office.

[FR Doc. 05-5820 Filed 3-23-05; 8:45 am]

BILLING CODE 6560-50-P